DEPARTMENT OF AGRICULTURE

Forest Service

Southwest Oregon Province Advisory Committee

AGENCY: Forest Service, USDA.

ACTION: Notice of meeting.

SUMMARY: The Southwest Oregon Province Advisory Committee will meet on July 30, 2003 in Grants Pass, Oregon in the Options Building Multi-Purpose Room at 1215 SW G St. The meeting will begin at 9 a.m. and continue until 5 p.m. Agenda items to be covered include: (1) Introduction of New Members; (2) Public Comment; (3) 2003 Implementation Monitoring; (4) Advisory Committee Guidelines and (5) Future Agenda Items.

FOR FURTHER INFORMATION CONTACT: Direct questions regarding this meeting to Jim Hays, Province Advisory Committee Coordinator, USDA Forest Service, Prospect Ranger District, 47201 Highway 62, Prospect, Oregon 97536, phone (541) 560-3432.

Dated: July 1, 2003.
Virginia Grilley,
Acting Designated Federal Official.

[FR Doc. 03-17213 Filed 7-7-03; 8:45 am]

BILLING CODE 3410-11-M